DEPARTMENT OF COMMERCE

Patent and Trademark Office

[Docket No. PTO-C-2025-0348]

Request for Comments on Community Outreach Office Locations in States Formerly Served by the Rocky Mountain Regional Outreach Office

AGENCY: United States Patent and Trademark Office, U.S. Department of Commerce.

ACTION: Request for comments.

SUMMARY: The United States Patent and Trademark Office (USPTO or Office) is seeking information to consider regarding the selection of locations for one or more community outreach offices (COOs) in the eight-state area formerly serviced by the Rocky Mountain Regional Outreach office that the USPTO was directed to establish under the Unleashing American Innovators Act of 2022 (UAIA).

DATES: To ensure consideration, written comments must be received by 5 p.m. ET on or before November 28, 2025, and should be submitted in accordance with the instructions in the ADDRESSES section. No public hearing will be held.

ADDRESSES: Comments must be submitted electronically to NewOffices@uspto.gov. Attachments will be accepted as MICROSOFT WORD® or ADOBE® PDF documents. To be considered, comments must be submitted to the email box. Because comments will be made available for public inspection, information that the submitter does not desire to make public, such as an address or phone number, should not be included in the comments.

If submission of comments to NewOffices@uspto.gov is not feasible due to a lack of access to a computer and/or the internet, please contact the USPTO using the contact information below for special instructions regarding how to submit comments by mail or by hand delivery, based on the public's ability to obtain access to USPTO facilities at the time.

FOR FURTHER INFORMATION CONTACT: Chris Shipp, Chief of Staff, Office of the Under Secretary of Commerce for Intellectual Property and Director of the USPTO, at 571-272-8600.

SUPPLEMENTARY INFORMATION:

I. Background

Enabled by the 2011 Leahy-Smith America Invents Act (AIA), Public Law 112-29, the USPTO currently has regional offices that are located in Detroit, Michigan; San Jose, California (Silicon Valley); and Dallas, Texas; and Alexandria, Virginia. The purposes of the regional offices (ROs), as originally defined in the AIA and amended by the UAIA, Public Law 117-328, 107 (2022), which was signed into law as part of the Consolidated Appropriations Act, 2023 on December 29, 2022, are to:

• RO1: Better connect patent filers and innovators with the Office, including by increasing outreach activities to individual innovators, small businesses, veterans, low-income populations, students, rural populations, and any geographic group of innovators that the Director may determine to be underrepresented in patent filings;

• RO2: Enhance patent examiner and administrative patent judge retention, including patent examiners and administrative patent judges from economically, geographically, and demographically diverse backgrounds;

• RO3: Improve recruitment of patent examiners;

• RO4: Decrease the number of patent applications waiting for examination; and

• RO5: Improve the quality of patent examination.

The USPTO has been focused on outreach and impact, and is working on ways to better introduce, support and assist those who may be new to the innovation ecosystem, enabling the involvement and participation of more individuals.

In addition to regional offices, the UAIA requires the USPTO to establish at least four COOs within five years from enactment of the Act (i.e., no later than December 29, 2027). The purposes of the COOs are to:

• COO1: Further achieve the purposes described above for the ROs;

• COO2: Partner with local community organizations, institutions of higher education, research institutions, and businesses to create tailored community-based programs that provide education regarding the patent system and promote the career benefits of innovation and entrepreneurship; and

• COO3: Educate prospective inventors, including individual inventors, small businesses, veterans, low-income populations, students, rural populations, and any geographic group of innovators that the Director may determine to be underrepresented in patent filings, about all public and private resources available to potential patent applicants, including the patent pro bono program.

The Northern New England Community Outreach Office was established in January 2025 in Durham, New Hampshire.

The USPTO is seeking information for consideration related to the location of one or more COOs in the eight-state area formerly serviced by the Rocky Mountain Regional Outreach Office. The eight-state area includes: Idaho, Utah, Montana, Wyoming, Colorado, North Dakota, South Dakota, and Nebraska.

The USPTO will use quantitative metrics and criteria to evaluate and assess the location selection for future COOs. The Office intends to consider the following classes of data (D) at a minimum:

• D1: Robust research activity and graduate level programs of study in areas which lead to innovations, IP, and IP-intensive companies/industries;

• D2: Availability and concentration of existing commercialization and business development resources (Innovation Ecosystem); and

• D3: Ability to support all inventors, as noted in COO3.

The USPTO welcomes input from all stakeholders on any matter that they believe is relevant to the overall planning and design or site selection of the USPTO COOs that will serve the eight-state area previously served by the Rocky Mountain Regional Outreach Office. Commenters are encouraged to address any or all of the statutory considerations listed in the UAIA and summarized above, any other considerations they believe the USPTO should consider, and the questions listed below.

To be considered, comments must be submitted to NewOffices@uspto.gov. Please cite any public data that relates to or supports your responses. If data is available but non-public, describe such data to the extent permissible.

II. Planning and Design Considerations of New Community Outreach Offices

With the addition of COOs to the agency's footprint, the USPTO envisions the joint mission of the COOs to be the cultivation and expansion of a vibrant innovation and entrepreneurship ecosystem supported by intellectual property across the United States. To accomplish this mission, the offices will conduct broad stakeholder engagement with innovators ranging from individual inventors to multinational business entities; establish and leverage partnerships and relationships to scale the USPTO's work; incentivize regional innovation and entrepreneurship, especially in key emerging areas (e.g., artificial intelligence (AI), quantum, and distributed ledger); and promote full participation by innovators and entrepreneurs of all backgrounds, including in rural areas and from our armed services, to support U.S. innovation and job creation.

III. Specific Questions for Comment

The USPTO invites responses to the following questions:

Community Outreach Offices

1. Considering the envisioned mission described above, what essential services—including outreach, education, and customer service—should a COO provide to achieve the statutory purposes?

a. Should the services identified be delivered in person? Why or why not?

b. Should the services identified be delivered virtually? Why or why not?

2. What types of organizations should the COO seek to establish relationships and collaborations with to better leverage and scale its services?

3. Would there be a benefit for a COO to be co-located with other public sector entities/services (e.g., universities)?

a. If so, please describe the added value of having a shared location.

b. Which public sector entities/services would you suggest for the shared location(s)?

c. If not, please describe the benefit of having a unique location for a COO.

General Comments Regarding New Community Outreach Offices

4. What unique services should the COOs individually provide, and how should the full range of services complement each other?

5. Considering the potential classes of data listed in Part I above, what additional key indicators or data would support COO site selection?

6. What other factors should the USPTO consider when planning for the new COOs?

Location of New Community Outreach Offices

Given the statutory purposes and considerations of COOs, as discussed in Part I, and the planning and design considerations identified in Part II:

7. Which location is ideal for one or more community outreach offices (COOs) in the eight-state area formerly serviced by the Rocky Mountain Regional Outreach Office?

8. What else should the USPTO consider when determining the ideal locations for new Community Outreach Offices?

While the Office welcomes and values all comments from the public in response to this request, the comments submitted do not commit the Office to any further actions related to the comments, and the Office may not respond to any or every submitted comment. The Office nonetheless will consider all written submissions.

Any and all decisions made regarding the future locations of the COOs will be consistent with the criteria outlined in the UAIA and the goals and mission of the USPTO.

John A. Squires,
Under Secretary of Commerce for Intellectual Property and Director of the United States Patent and Trademark Office.

[FR Doc. 2025-19695 Filed 10-28-25; 8:45 am]

BILLING CODE 3510-16-P